Title 3—

The President

Proclamation 10983 of October 14, 2025

National Day of Remembrance for Charlie Kirk

By the President of the United States of America

A Proclamation

On the afternoon of Wednesday, September 10, 2025, pure evil struck when the legendary Charlie Kirk was assassinated in broad daylight in a campus courtyard, triggering a groundswell of righteous fury all across our land. Today, our Nation honors the immortal memory of Charlie—a father, a husband, a Christian martyr, and a titan of the American conservative movement. We honor his life, we send our condolences to his beautiful family, and we pledge to advance the values for which he laid down his life.

Every day, Charlie devoted himself to a set of simple causes: Defending the truth, encouraging debate, and spreading the Gospel of Jesus Christ. He was gracious and articulate beyond measure, always welcomed opposing perspectives, and never deviated from his noble goal of bridging our political, cultural, and philosophical divides.

As we mourn this extraordinary loss, my Administration will continue to do everything in its power to end this devastating wave of political violence. No civilized country can endure a culture where open debate is met with gunfire, the pursuit of truth is met with bloodshed, and love of country is met with seething hatred. In Charlie's absence, we are now tasked with continuing his mission of giving voice to our cherished American ideals with confidence and clarity. Like him, we must not flinch in the face of darkness and hostility—and we must never waver in speaking the truth with joyful and steadfast resolve.

Today, on what would have been his 32nd birthday, our Nation honors the loving memory of Charlie Kirk. We offer our condolences to his beautiful wife, Erika, and two precious children. We call on every American to pray for peace in our public square. Above all, we renew our resolve to always defend our principles of truth, faith, and the open exchange of ideas.

NOW, THEREFORE, I, DONALD J. TRUMP, President of the United States of America, by virtue of the authority vested in me by the Constitution and the laws of the United States, do hereby proclaim October 14, 2025, as a National Day of Remembrance for Charlie Kirk. I call on the American people to assemble on this day in their respective places of worship, there to pay homage to Charlie's memory. I invite the people of our Nation to pray for the advancement of peace, truth, and justice all across our country.

IN WITNESS WHEREOF, I have hereunto set my hand this fourteenth day of October, in the year of our Lord two thousand twenty-five, and of the Independence of the United States of America the two hundred and fiftieth.

[FR Doc. 2025-19594

Filed 10-16-25; 11:15 am]

Billing code 3395-F4-P